DEPARTMENT OF ENERGY

Office of Energy Efficiency and Renewable Energy

Bioproducts To Enable Biofuels Workshop

AGENCY: Office of Energy Efficiency and Renewable Energy, Department of Energy.

ACTION: Notice of public workshop.

SUMMARY: The Department of Energy (DOE) is announcing a public workshop entitled, “Bioproducts to Enable Biofuels Workshop”. The Bioenergy Technologies Office (BETO) is seeking to collect information from key industry, university, national laboratory, and other stakeholders regarding challenges associated with the coproduction of biomass derived chemicals, products, and biofuels.

DATES: The public workshop will be held on July 16, 2015, from 8:00 a.m. to 5:30 p.m. MDT in Westminster, Colorado.

ADDRESSES: The meeting will be held at The Westin Westminster, 10600 Westminster Blvd., Westminster, Colorado 80020.

FOR FURTHER INFORMATION CONTACT: Questions may be directed to Andrea Bailey at 303-425-6800 ext. 460 or by email at andrea.bailey@ee.doe.gov.

SUPPLEMENTARY INFORMATION:

Purpose of the Meeting

BETO seeks to collect information from key industry, university, national laboratory, and other stakeholders regarding the challenges associated with the coproduction of biomass-derived chemicals, products, and biofuels. The following topic areas of interest are intended to be covered at the workshop:

1. Identifying and evaluating economic drivers for producing bioproducts.

2. Identifying and prioritizing targets for bioproducts produced from biofuel waste streams, coproduced with biofuels, or produced at standalone facilities.

3. Identifying research and development challenges associated with bioproducts produced from biofuel waste streams, coproduced with biofuels, or produced at standalone facilities.

4. Identifying environmental considerations (i.e., life-cycle analysis), carbon percentage dedicated to fuels vs. products (i.e., split stream), and ideal intermediates for bioproduct production to enable biofuels.

Public Participation

Members of the public are welcome to attend the workshop. Registration is free and available on a first-come, first-served basis. Persons interested in attending this public workshop must register online by 4 p.m. MDT, July 15, 2015. Early registration is recommended because facilities are limited and, therefore, DOE may limit the number of participants from each organization. To register for the public workshop, please visit http://www.yesevents.com/MEGABio2015. Registrants will receive confirmation after they have been accepted. If you need special accommodations due to a disability, please contact Andrea Bailey no later than July 15, 2015.

Issued in Washington, DC, on June 30, 2015.
Kevin Craig,
Program Manager—Bioenergy Technologies Office, Energy Efficiency and Renewable Energy.

[FR Doc. 2015-16786 Filed 7-8-15; 8:45 am]

BILLING CODE 6450-01-P